DEPARTMENT OF COMMERCE

National Oceanic and Atmospheric Administration

RIN 0648-XE651

South Atlantic Fishery Management Council; Public Meeting

AGENCY: National Marine Fisheries Service (NMFS), National Oceanic and Atmospheric Administration (NOAA), Commerce.

ACTION: Notice of a public meeting of the South Atlantic Fishery Management Council.

SUMMARY: The South Atlantic Fishery Management Council (Council) will hold meetings of the: Habitat Protection and Ecosystem-Based Management Committee; Scientific and Statistical Committee (SSC) Selection Committee (Closed Session); Southeast Data, Assessment and Review (SEDAR) Committee (Partially Closed Session); Advisory Panel Selection Committee; Joint Dolphin Wahoo and Snapper Grouper Committees; Snapper Grouper Committee; Law Enforcement Committee (Partially Closed Session); Spiny Lobster Committee; Protected Resources Committee; Data Collection Committee; Executive Finance Committee; King and Spanish Mackerel Committee; and a meeting of the Full Council.

The Council will also hold a formal public comment session. The Council will take action as necessary.

DATES: The Council meeting will be held from 1:30 p.m. on Monday, June 13, 2016 until 1 p.m. on Friday, June 17, 2016.

ADDRESSES:

Meeting address: The meeting will be held at the Hilton Cocoa Beach Oceanfront, 1550 N. Atlantic Avenue, Cocoa Beach, FL 32931; phone: (800) 445-8667 or (321) 799-0003; fax: (321) 799-0344.

Council address: South Atlantic Fishery Management Council, 4055 Faber Place Drive, Suite 201, N. Charleston, SC 29405.

FOR FURTHER INFORMATION CONTACT: Kim Iverson, Public Information Officer, SAFMC; phone: (843) 571-4366 or toll free (866) SAFMC-10; fax: (843) 769-4520; email: kim.iverson@safmc.net.

SUPPLEMENTARY INFORMATION: Public comment: Written comments may be directed to Gregg Waugh, Executive Director, South Atlantic Fishery Management Council (see ADDRESSES) or electronically via the Council's Web site at: http://safmc.net/CommentForm_June2016Council. All comments must be received by June 6, 2016 in order to be considered by the Council prior to the meeting. For written comments received after the Monday before the meeting (after 6/6), individuals sending the comment must use the Council's online form “http://safmc.net/CommentForm_June2016Council”. Comments will automatically be posted to the Web site and available for Council consideration. Comments received prior to noon on Thursday, June 16, 2016 will be a part of the meeting administrative record.

The items of discussion in the individual meeting agendas are as follows:

Habitat Protection and Ecosystem-Based Management Committee Meeting, Monday, June 13, 2016, 1:30 p.m. Until 5:30 p.m.

The Committee will receive a status report on the development of the Fishery Ecosystem Plan II. An Ocean Technology Session will be held as part of the Committee meeting with sessions addressing the use of Autonomous Underwater Vehicles (AUVs), Autonomous and 3D Mapping, Remotely Operated Vehicles Advances and Acoustics, and Unmanned Aircraft Systems (Drones) as Tools in the Ocean. The Committee will also receive presentations on Ocean Investment and Collaborative Sustainability, Applying Emerging Technologies and 21st Century Data Collection, and an overview of recent Council actions specific to Habitat.

SSC Selection Committee, Tuesday, June 14, 2016, 8:30 a.m. Until 9 a.m. (Closed Session)

The Committee will review applications for the SSC and provide recommendations for Council consideration.

SEDAR Committee (Partially Closed Session), Tuesday, June 14, 2016, 9 a.m. Until 10 a.m.

1. The Committee will recommend participants for the upcoming Blueline Tilefish Benchmark and Red Grouper SEDAR Stock Assessment (Closed Session). The Committee will discuss the timing and Terms of Reference for the assessment.

2. The Committee will receive updates on SEDAR projects, discuss future stock assessments for cobia, receive a SEDAR Steering Committee update, and receive the results of the SSC review of the NOAA Fisheries Assessment Priority Process.

Advisory Panel Selection Committee, Tuesday, June 14, 2016: 10 a.m. Until 10:30 a.m.

1. The Committee will review options to allow fishing representation on the Law Enforcement Advisory Panel (AP) and the Information and Education AP, and provide recommendations as appropriate.

2. The Committee will discuss modifications to the current AP application for SEDAR applicants and requirements for AP applicants relative to email accounts and Internet access.

Joint Dolphin Wahoo and Snapper Grouper Committees, Tuesday, June 14, 2016, 10:30 a.m. Until 12 Noon

1. The Committee will receive status updates from NOAA Fisheries on commercial and recreational catches versus annual catch limits (ACLs) for dolphin and wahoo and amendments currently under Secretarial review.

2. The Committee will receive an overview of Amendment 10 to the Dolphin Wahoo Fishery Management Plan (FMP)/Amendment 44 to the Snapper Grouper FMP addressing allocations for dolphin and yellowtail snapper, and provide direction to staff as appropriate.

Snapper Grouper Committee, Tuesday, June 14, 2016, 1:30 p.m. Until 5:30 p.m. and Wednesday, June 15, 2016; 8:30 a.m. Until 5:30 p.m.

1. The Committee will receive updates from NOAA Fisheries on the status of commercial and recreational catches versus quotas for species under ACLs, and the status of amendments currently under Secretarial review.

2. The Committee will receive updates on fishery-independent sampling programs and projects funded through Saltonstall-Kennedy Grant Program.

3. The Committee will receive reports from the Snapper Grouper Advisory Panel, the Scientific and Statistical Committee, and NOAA Fisheries' Southeast Fisheries Science Center regarding red snapper mortality for the 2015 and 2016 fishing season.

4. The Committee will receive an overview of Snapper Grouper Amendment 37 addressing measures for hogfish, modify the document as appropriate, and approve/disapprove all actions.

5. The Committee will review Snapper Grouper Amendment 41 addressing management measures for mutton snapper, modify the document as appropriate, and approve for public hearings.

6. The Committee will receive an overview of management options for red snapper to be addressed in Amendment 43, modify the document as necessary, discuss and consider emergency action, and provide guidance to staff.

7. The Committee will review management options to include in Vision Blueprint Amendments, discuss and provide direction to staff.

8. The Committee will receive an overview of options for establishing a Control Date and Limited Entry program for federal For-Hire Permits in the Snapper Grouper, Coastal Migratory Pelagic, and Dolphin Wahoo fisheries in the South Atlantic/Atlantic. The Committee will discuss options and provide direction to staff.

Formal Public Comment, Wednesday, June 15, 2016, 5:30 p.m.—Public comment will be accepted on items on the Council agenda. Comment will be accepted first on items before the Council for approval for public hearings: (1) Snapper Grouper Amendment 41 (mutton snapper) and (2) Coastal Migratory Pelagics Framework Amendment 4 (Atlantic cobia). The Council Chair, based on the number of individuals wishing to comment, will determine the amount of time provided to each commenter.

Law Enforcement Committee, Thursday, June 16, 2016, 8:30 a.m. Until 9:30 a.m. (Partially Closed Session)

1. The Committee will review nominees for Law Enforcement Officer of the Year (Closed Session) and provide recommendations for Council consideration.

2. The Committee will discuss items for the Joint Advisory Panel/Committee meeting.

Spiny Lobster Committee, Thursday, June 16, 2016, 9:30 a.m. Until 10:30 a.m.

1. The Committee will receive a report on spiny lobster landings, receive a report from the joint meeting of the South Atlantic and Gulf of Mexico Spiny Lobster Advisory Panels, review recommendations from advisory panels and the Spiny Lobster Review Panel, and provide guidance to staff.

2. The Committee will receive a report on the compliance of trap prohibitions in Closed Areas in the Florida Keys, review specifications from NOAA Fisheries for gear marking requirements for recreational harvest of spiny lobster with traps outside of Florida, and provide recommendations as appropriate.

Protected Resources Committee, Thursday, June 16, 2016, 10:30 a.m. Until 11:30 a.m.

1. The Committee will receive an update from NOAA Fisheries on Protected Resources issues including the use of Turtle Excluder Devices (TEDs) for skimmer trawls and a 12-month determination for Nassau grouper. The Committee will also receive an update from the U.S. Fish and Wildlife Service.

Data Collection Committee, Thursday, June 16, 2016, 1 p.m. Until 2:30 p.m.

1. The Committee will receive an update from NOAA Fisheries on the status of work relative to Comprehensive Ecosystem-Based Amendment 3 (CE-BA 3) addressing bycatch, discuss the amendment and provide direction to staff.

2. The Committee will receive an update on the status of the Implementation Plan for commercial logbook electronic reporting and the NMFS pilot project, discuss and provide guidance to staff.

3. The Committee will also receive an overview of the Atlantic For-Hire Reporting Amendment, discuss core variables, and modify the document as appropriate.

4. The Committee will receive an update on the Council's Citizen Science Program, discuss, and take action as appropriate.

Executive Finance Committee, Thursday, June 16, 2016, 2:30 p.m. Until 3:30 p.m.

1. The Committee will review and approve the Calendar Year (CY) 2016 budget; review, modify, and approve the Council Follow-up and work priorities; and provide recommendations as appropriate.

2. The Committee will receive a report from the Council Coordinating Committee meeting, discuss standards and procedures for participating in Council webinar meetings and for accepting public comment, discuss the development of a Visioning Project for other species managed by the Council, and take action as appropriate.

3. The Committee will discuss the use of Atlantic Coastal Cooperative Statistical Program (ACCSP) data for developing FMP amendments and ACCSP housing commercial logbook data and headboat data and take action as appropriate.

King and Spanish Mackerel Committee, Thursday, June 16, 2016: 3:30 p.m. Until 5:30 p.m.

1. The Committee will receive a report from NOAA Fisheries on the recreational and commercial catches versus ACLs and the status of amendments under review, and a report from the April 2016 Gulf of Mexico Fishery Management Council meeting.

2. The Committee will receive updates on decisions relative to Atlantic cobia by the states and the Atlantic States Marine Fisheries Commission (ASMFC), review public input, and take action as necessary.

3. The Committee will receive an overview of Framework Amendment 4 to the Coastal Migratory Pelagic FMP addressing management measures for Atlantic cobia, review and approve actions and alternatives, modify the document as needed, select preferred alternatives, and approve the document for public hearings.

4. The Committee will review Framework Amendment 5 to the Coastal Migratory Pelagic FMP that would remove current restrictions on commercial king mackerel and Spanish mackerel permits that prohibit the retention of bag limit king mackerel and Spanish mackerel on recreational (non-commercial and non-charter/headboat) trips on federally permitted vessels when commercial harvest is closed for the Gulf of Mexico region. The Committee will consider a joint framework amendment with the Gulf Council in order to apply the regulations to the Gulf of Mexico, South Atlantic, and Mid-Atlantic regions, and provide recommendations as appropriate.

5. The Committee will receive an overview of options being considered in Amendment 29 to the Coastal Migratory Pelagic FMP to address allocations of Gulf migratory group king mackerel, discuss, and take action as needed.

Council Session: Friday, June 17, 2016, 8:30 a.m. Until 1 p.m.

8:30-8:45 a.m.: Call the meeting to order, adopt the agenda, and approve the March 2016 meeting minutes.

8:45-9:30 a.m.: The Council will receive a report from the Snapper Grouper Committee and approve/disapprove Snapper Grouper Amendment 41 (mutton snapper) for public hearings. The Council will consider other Committee recommendations and take action as appropriate.

9:30-10 a.m.: The Council will receive a report from the Mackerel Committee, approve/disapprove Coastal Migratory Pelagics Framework Amendment 4 (Atlantic cobia) for public hearings, consider other Committee recommendations, and take action as appropriate.

10 a.m.-10:10 a.m.: The Council will receive a report from the Spiny Lobster Committee, consider other Committee recommendations, and take action as appropriate.

10:10-10:30 a.m.: The Council will receive a report from the Joint Dolphin Wahoo and Snapper Grouper Committees, consider recommendations, and take action as appropriate.

10:30-10:40 a.m.: The Council will receive a report from the Protected Resources Committee, consider recommendations, and take action as appropriate.

10:40-10:50 a.m.: The Council will receive a report from the AP Selection Committee, consider Committee recommendations, and take action as appropriate.

10:50-11 a.m.: The Council will receive a report from the SSC Selection Committee, consider Committee recommendations, and take action as appropriate.

11:10-11:10 a.m.: The Council will receive a report from the SEDAR Committee, consider committee recommendations, and take action as appropriate.

11:10-11:20 a.m.: The Council will receive a report from the Data Collection Committee, consider committee recommendations, and take action as appropriate.

11:20-11:25 a.m.: The Council will receive a report from the Habitat Committee, consider committee recommendations, and take action as appropriate.

11:25-11:30 a.m.: The Council will receive a report from the Law Enforcement Committee, approve the recipient of the Law Enforcement Officer of the Year award, consider other committee recommendations, and take action as appropriate.

11:30-11:40 a.m.: The Council will receive a report from the Executive Finance Committee, approve the Council CY 2016 budget, approve the Council Follow-Up and Priorities, consider other Committee recommendations, and take action as appropriate.

11:40-1 p.m.: The Council will receive status reports from NOAA Fisheries Southeast Regional Office and the Southeast Fisheries Science Center; review and develop recommendations on Experimental Fishing Permits as necessary; receive an update on the Marine Resources Education Program—Southeast; receive agency and liaison reports; and discuss other business and upcoming meetings.

Documents regarding these issues are available from the Council office (see ADDRESSES).

Although non-emergency issues not contained in this agenda may come before these groups for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the Council office (see ADDRESSES) 3 days prior to the meeting.

Note: The times and sequence specified in this agenda are subject to change.

Authority: 16 U.S.C. 1801 et seq.

Dated: May 24, 2016.
Tracey L. Thompson,
Acting Deputy Director, Office of Sustainable Fisheries, National Marine Fisheries Service.

[FR Doc. 2016-12618 Filed 5-26-16; 8:45 am]

BILLING CODE 3510-22-P